DEPARTMENT OF TRANSPORTATION

Federal Aviation Administration

RTCA Special Committee 147: Minimum Operational Performance Standards for Traffic Alert and Collision Avoidance Systems Airborne Equipment

AGENCY: Federal Aviation Administration (FAA), DOT.

ACTION: Notice of RTCA Special Committee 147 meeting.

SUMMARY: The FAA is issuing this notice to advise the public of a meeting of RTCA Special Committee 147: Minimum Operational Performance Standards for Traffic Alert and Collision Avoidance Systems Airborne Equipment.

DATES: The meeting will be held May 11-13, 2004 starting at 9 a.m.

ADDRESSES: The meeting will be held at RTCA, Inc., 1828 L St., NW., Suite 805, Washington, DC 20036.

FOR FURTHER INFORMATION CONTACT: RTCA Secretariat, 1828 L St., NW., Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 147 meeting. The agenda will include:

• May 11:

• Opening Session (Welcome and Introductory Remarks, Review/Approve Summary of Previous Meeting, Review of Open Action Items)

• Special Committee 147 Revised Terms of Reference

• Working Group Structure

• FAA Perspectives and Objectives

• Operational Role of Traffic Alert and Collision Avoidance System (TCAS/Airborne Collision Avoidance System (ACAS)

• Relationship of TCAS of Aircraft Surveillance Applications (ASA)/Airborne Separation Assistance Systems (ASAS)/Automatic Dependent Surveillance-Broadcast (ADS-B)

• Operations and Surveillance Working Group Activities

• May 12:

• Requirements Working Group (RWG) Activities

• Cockpit Display of Traffic Information (CDTI); SC-186 Developing Minimum Operational Performance Standards (MOPS)

• FAA/SC-147 Knowledge Services Network (KSN)

• May 13:

• Working Group Breakout/Organizational Meeting

• Closing Session (Future Actions/Activities, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 2, 2004.
Robert Zoldos,
FAA System Engineer, RTCA Advisory Committee.

[FR Doc. 04-8822 Filed 4-16-04; 8:45 am]

BILLING CODE 4910-13-M